DEPARTMENT OF DEFENSE

Office of the Secretary

Meeting of the DoD Healthcare Quality Initiative Review Panel

AGENCY: Department of Defense.

ACTION: An executive/administration meeting for DOD Healthcare Quality Initiatives Review Panel has been scheduled for August 9 & 10, 2000.

SUMMARY: This notice set forth the meeting of the DoD Healthcare Quality Initiatives Review Panel. Notice of meeting is required under The Federal Advisory Committee Act.

DATES: August 9 & 10, 2000.

ADDRESSES: Sheraton Crystal City, 1800 Jefferson Davis Hwy., Arlington, VA 22202.

TIME: August 9th, 5 p.m. to 8:30 p.m.; August 10th, 8 a.m. to 5:30 p.m.

FOR FURTHER INFORMATION: For information please contact Gia Edmonds at (703) 933-8325.

Special Notice

Due to a last minute call to Jury Duty, FAC/HQIRP Chairman, Dr. Al Buck will not be present to preside over the August 9-10, 2000, meeting. This information was forwarded on July 31, 2000 to the FAC office for a determination if the meeting required cancellation. The determination is that Dr. Buck may designate the existing Designated Federal Officer (DFO) to both convene and chair the meeting. Upon notification from the FAC headquarters office on August 1, 2000, this notice is posted on August 2, 2000 with apologies for it being late due to the circumstances noted above.

August 3, 2000.
L.M. Bynum,
Alternate OSD Federal Register Liaison Officer, Department of Defense.

[FR Doc. 00-20190 Filed 8-9-00; 8:45 am]

BILLING CODE 5001-10-M